ENVIRONMENTAL PROTECTION AGENCY

40 CFR Part 300

[FRL-7144-3]

National Oil and Hazardous Substance Pollution Contingency Plan; National Priorities List

AGENCY: Environmental Protection Agency.

ACTION: Proposed notice of intent to delete the Luke Air Force Base Superfund Site from the National Priorities List.

SUMMARY: The Environmental Protection Agency (EPA) Region 9 is issuing a notice of intent to delete Luke Air Force Base (AFB) Superfund Site (Site) located in Glendale, Arizona from the National Priorities List (NPL) and requests public comments on this notice of intent. The NPL, promulgated pursuant to section 105 of the Comprehensive Environmental Response, Compensation, and Liability Act (CERCLA) of 1980, as amended, is found at appendix B of 40 CFR part 300 of the National Oil and Hazardous Substances Pollution Contingency Plan (NCP). The EPA and the State of Arizona through the Arizona Department of Environmental Quality have determined that all appropriate response actions under CERCLA, other than operation and maintenance and five-year reviews, have been completed. However, this deletion does not preclude future actions under Superfund.

In the “Rules and Regulations” Section of today's Federal Register, we are publishing a direct final notice of deletion of Luke AFB Superfund Site without prior notice of intent to delete because we view this as a noncontroversial revision and anticipate no adverse comment. We have explained our reasons for this deletion in the preamble to the direct final deletion. If we receive no adverse comment(s) on this notice of intent to delete or the direct final notice of deletion, we will not take further action on this notice of intent to delete. If we receive adverse comment(s), we will withdraw the direct final notice of deletion and it will not take effect. We will, as appropriate, address all public comments in a subsequent final deletion notice based on this notice of intent to delete. We will not institute a second comment period on this notice of intent to delete. Any parties interested in commenting must do so at this time. For additional information, see the Direct Final Notice of Deletion which is located in the Rules section of this Federal Register.

DATES: Comments concerning this Site must be received by March 21, 2002.

ADDRESSES: Written comments should be addressed to: Xuan-Mai Tran, Remedial Project Manager, U.S. EPA (SFD-8-3), 75 Hawthorne Street, San Francisco, CA USA 94105, 415-972-3002 or 1-800-231-3075.

FOR FURTHER INFORMATION CONTACT: Xuan-Mai Tran, Remedial Project Manager, U.S. EPA (SFD-8-3), 75 Hawthorne Street, San Francisco, CA USA 94105, 415-972-3002 or 1-800-231-3075.

SUPPLEMENTARY INFORMATION: For additional information, see the Direct Final Notice of Deletion which is located in the Rules section of this Federal Register.

Information Repositories: Repositories have been established to provide detailed information concerning this decision at the following address: U.S. EPA Region 9 Superfund Record Center, 95 Hawthorne Street, San Francisco, CA USA 94105 USA, 415-536-2000, Monday through Friday 8:00 a.m. to 5:00 p.m.; Glendale Public Library, 5959 West Brown Street, Glendale, AZ 85302, 623-930-3531; Arizona Department of Environmental Quality, WPD/SPS/FPU Section/Federal Projects Unit, 3033 N. Central Ave., Phoenix, AZ 85012, 602-207-2300 or 1-800-234-5677.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: February 6, 2002.
Wayne Nastri,
Regional Administrator, Region 9.

[FR Doc. 02-3765 Filed 2-15-02; 1:37 pm]

BILLING CODE 6560-50-U